ENVIRONMENTAL PROTECTION AGENCY

[ER-FRL-6633-7]

Environmental Impact Statements; Notice of Availability

Responsible Agency: Office of Federal Activities, General Information (202) 564-7167 or http://www.epa.gov/compliance/nepa

Weekly receipt of Environmental Impact Statements

Filed September 23, 2002 Through September 27, 2002

Pursuant to 40 CFR 1506.9.

EIS No. 020404, DRAFT EIS, COE, AK, Akutan Harbor Navigation Improvements Project, Construction, National Economic Development Plan (NED), Bering Sea, City of Akutan, AK, Comment Period Ends: November 18, 2002, Contact: Guy R. McConnell (907) 753-2614.

EIS No. 020405, DRAFT EIS, FHW, NH, Interstate 93 Improvements, From Salem to Manchester, IM-IR-93-1(174)0, 10418-C, Funding, NPDES and COE Section 404 Permits, Hillsborough and Rockingham Counties, NH, Comment Period Ends: November 18, 2002, Contact: William F. O'Donnell (603) 228-3057.

EIS No. 020406, DRAFT EIS, AFS, IL, Kudzu Eradication, Proposal to Eradicate Known Kudzu Infestations in the Shawnee National Forest, Application for Herbicide and Mechanical Treatment, Jackson, Alexander and Pope Counties, IL, Comment Period Ends: December 3, 2002, Contact: Tom Neal (618) 658-2111.

Dated: October 1, 2002.
Joseph C. Montgomery,
Director, NEPA Compliance Division, Office of Federal Activities.

[FR Doc. 02-25280 Filed 10-3-02; 8:45 am]

BILLING CODE 6560-50-P